DEPARTMENT OF THE INTERIOR

National Park Service

60-Day Notice of Intention to Request Clearance of Information Collection; Opportunity for Public Comment

AGENCY: National Park Service, Interior.

ACTION: Notice and request for comments.

SUMMARY: Under the provisions of the Paperwork Reduction Act of 1995 (Pub. L. 104-13, 44 U.S.C. 3507) and 5 CFR part 1320, Reporting and Recordkeeping requirements, the National Park Service (NPS) invites public comment on a revision of a currently approved collection of information (OMB #1024-0026).

DATES: Public Comments on this notice will be accepted until December 18, 2006.

ADDRESSES: Send comments to Lee Dickinson, Special Park Uses Program Manager, National Park Service, 1849 C Street, NW., (org. code 2465), Washington, DC 20240, e-mail at Lee_Dickinson@nps.gov. All responses to this notice will be summarized and included in the request for Office of Management and Budget (OMB) approval. All comments will become a matter of public record.

FOR FURTHER INFORMATION CONTACT: Lee Dickinson, Special Park Uses Program Manager, National Park Service, 1849 C Street, NW., (org. code 2465), Washington, DC 20240, by telephone at 202-513-7092, fax at 202-371-2401, or by e-mail at Lee_Dickinson@nps.gov. You are entitled to a copy of the entire ICR package free of charge.

SUPPLEMENTARY INFORMATION: Title: Special Park Use Applications (Portions of 36 CFR 1-7, 13, 20, 34).

Form Numbers: 10-930, 10-931, 10-932.

OMB Number: 1024-0026.

Expiration Date: December 31, 2006.

Type of Request: Extension of a currently approved collection.

Description of Need: The NPS' legislative mandate is to preserve America's natural and cultural treasurers unimpaired for future generations, while also making them available for the enjoyment of the visitor (16 U.S.C. 1). NPS regulations, codified at title 36 Code of Federal Regulations (CFR), are promulgated to allow for the enjoyment and use of the resource by the public while protecting the resource. These forms are intended to gather sufficient information to enable park managers to approve or deny the requested uses of public lands authorized in 36 CFR and, if approved, to provide sufficient information to craft permit terms and conditions sufficient to protect park lands from impairment of the park resources, values and purposes for which the park was created. The uses considered under these information collection applications generally include those which regulate or limit those activities not available to the public at large, such as special events, commercial filming, and grazing in parks where such activity is authorized by law.

The NPS specially invites public comments as to:

a. Whether the collection of information is necessary for the proper performance of the functions of the Service, whether the information will have practical utility.

b. The accuracy of the Service's estimate of the burden of the collection of information, including the validity of the methodology and assumptions used;

c. The quality, utility, and clarity of the information to be collected; and

d. How to minimize the burden of the collection of information on those who are to respond, including the use of appropriate automated, electronic, mechanical or other forms of information technology.

Description of Respondents: Individuals, not-for-profit institutions, for profit businesses.

Estimated annual number of respondents: 18,600 annually.

Estimated annual burden on respondents: 11,150 hours.

Estimated average burden hours per response: 35 minutes.

Estimated frequency of response: 18,600 annually.

Dated: September 7, 2006.
Leonard E. Stowe,
NPS, Information and Collection Clearance Officer.

[FR Doc. 06-8724 Filed 10-16-06; 8:45 am]

BILLING CODE 4312-52-M